DEPARTMENT OF ENERGY

Federal Energy Regulatory Commission

[Docket No. RP04-329-001]

Questar Southern Trails Pipeline Company; Notice of Tariff Filing

July 14, 2004.

Take notice that on July 12, 2004, Questar Southern Trails Pipeline Company (Southern Trails) tendered for filing an amendment to its June 11, 2004, tariff filing. Questar states that the amended filing consists of the following tariff sheets to Original Volume No. 1 of its FERC Gas Tariff:

Substitute Third Revised Sheet Nos. 1 and 30

Substitute Original Sheet No. 114

Southern Trails states that a copy of this filing has been served upon its customers and the Public Service Commissions of Utah, New Mexico, Arizona, and California.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. This filing is available for review at the Commission in the Public Reference Room or may be viewed on the Commission's Web site at http://www.ferc.gov using the eLibrary (FERRIS) link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Magalie R. Salas,
Secretary.

[FR Doc. E4-1624 Filed 7-20-04; 8:45 am]

BILLING CODE 6717-01-P